BUREAU OF CONSUMER FINANCIAL PROTECTION

[Docket No. CFPB-2020-0029]

Agency Information Collection Activities: Comment Request

AGENCY: Bureau of Consumer Financial Protection.

ACTION: Notice and request for comment.

SUMMARY: In accordance with the Paperwork Reduction Act of 1995 (PRA), the Bureau of Consumer Financial Protection (Bureau) is publishing this notice seeking comment on a Generic Information Collection titled, “Making Ends Meet Survey” under the Generic Information Collection Plan titled, “Generic Information Collection Plan for Surveys Using the Consumer Credit Panel” prior to requesting the Office of Management and Budget (OMB) approval of this collection.

DATES: Written comments are encouraged and must be received on or before September 24, 2020 to be assured of consideration.

ADDRESSES: You may submit comments, identified by the title of the information collection, OMB Control Number (see below), and docket number (see above), by any of the following methods:

• Regulations.gov: Go to http://www.regulations.gov. Follow the instructions for submitting comments.

• Email: PRA_Comments@cfpb.gov. Include Docket No. CFPB-2020-0029 in the subject line of the message.

• Mail/Hand Delivery/Courier: Consumer Financial Protection Bureau (Attention: PRA Office), 1700 G Street NW, Washington, DC 20552.

Please note that due to circumstances associated with the COVID-19 pandemic, the Bureau discourages the submission of comments by mail, hand delivery, or courier. Please note that comments submitted after the comment period will not be accepted. In general, all comments received will become public records, including any personal information provided. Sensitive personal information, such as account numbers or Social Security numbers, should not be included.

FOR FURTHER INFORMATION CONTACT: Documentation prepared in support of this information collection request is available at www.regulations.gov. Requests for additional information should be directed to Darrin King, PRA Officer, at (202) 435-9575, or email: CFPB_PRA@cfpb.gov. If you require this document in an alternative electronic format, please contact CFPB_Accessibility@cfpb.gov. Please do not submit comments to these email boxes.

SUPPLEMENTARY INFORMATION: Title of Collection: Making Ends Meet Survey.

OMB Control Number: 3170-0066.

Type of Review: Request for approval of a Generic Information Collection under an existing Generic Information Collection Plan.

Affected Public: Individuals or households.

Estimated Number of Respondents: 4,200.

Estimated Total Annual Burden Hours: 1,226.

Abstract: The Bureau seeks to obtain approval for another round of the “Making Ends Meet Survey” that will solicit information on the consumer's experience related to household financial shocks, particularly shocks related to the economic effects of the COVID-19 pandemic, how households respond to those shocks, and the role of savings to help provide a financial buffer. The Bureau mailed one round in May 2019 and a second round in May 2020.¹ Both rounds sought to understand how consumers response to financial shocks, among other things. This new survey will have two arms: One will be a follow-up to respondents from the Bureau's 2019 “Making Ends Meet Survey” to better understand household financial experiences dealing with the economic impacts of the COVID-19 pandemic. The second arm will go to a new sample of consumers from the Consumer Credit Panel and will help balance attrition from the follow-up and provide additional information specifically related to savings behaviors. All research under this collection will be related to the household balance sheet, and, thus, will be for general, formative, and informational research on consumer financial markets and consumers' use of financial products and will not directly provide the basis for specific policymaking at the Bureau.

¹ The Bureau published a report on the first round in July, 2020. The report describes select results from the survey and discusses response rates and weighting procedures. The report is available here: https://www.consumerfinance.gov/data-research/research-reports/insights-making-ends-meet-survey/.

Request for Comments: The Bureau is publishing this notice and soliciting comments on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology.

Special Request for Comments: Both proposed survey arms contain more questions than the Bureau intends to mail, the Bureau solicits comments on which questions provide the most value.

Note that although the Bureau is requesting comments at this time, the Bureau will not proceed with the collection or request any responses until such time as the Bureau determines it will not impose an undue burden on respondents as they respond to the COVID-19 pandemic. Comments submitted in response to this notice will be submitted to OMB as part of its review of this request. All comments will become a matter of public record.

Darrin King,
Paperwork Reduction Act Officer, Bureau of Consumer Financial Protection.

[FR Doc. 2020-18644 Filed 8-24-20; 8:45 am]

BILLING CODE 4810-AM-P